DEPARTMENT OF COMMERCE

Census Bureau

Annual Retail Trade Survey

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 21, 2005.

ADDRESSES: Direct all written comments to Diana Hynek, Departmental Paperwork Clearance Officer, Department of Commerce, Room 6625, 14th and Constitution Avenue, NW., Washington, DC 20230 (or via the Internet at DHynek@doc.gov).

FOR FURTHER INFORMATION CONTACT: Requests for additional information or copies of the information collection instrument(s) and instructions should be directed to Nancy Piesto, U.S. Census Bureau, Room 2632-FOB 3, Washington, DC 20223-6500, at (301) 763-7872.

SUPPLEMENTARY INFORMATION:

I. Abstract

The Annual Retail Trade Survey (ARTS) provides a sound statistical basis for the formation of policy by other government agencies. It provides continuing and timely national statistics on retail trade and accommodation and food services, augmenting the period between economic censuses, and is a continuation of similar retail trade surveys conducted each year since 1951. The data collected-annual sales and other operating receipts, e-commerce sales and other operating receipts, purchases, end-of-year inventories, and accounts receivables-are applicable to a variety of public and business needs. Data items collected for accommodation and food services are annual receipts and e-commerce receipts. The estimates of purchased merchandise will be used to estimate trade margins on commodities sold in calculating the personal consumption portion of the Gross Domestic Product (GDP) by the Bureau of Economic Analysis (BEA). Accounts receivable balances are used by the Federal Reserve Board in measuring consumer credit. Businesses use these estimates to determine market share and to perform other analysis.

The ARTS sample consists of all firms operating retail establishments within the U.S. whose probability of selection is determined by sales size. Estimates developed in the ARTS are used to benchmark the monthly sales and inventories series. The firms canvassed in this survey are not required to maintain additional records since carefully prepared estimates are acceptable if book figures are not available.

Since the last OMB submission the ARTS no longer uses preprinted pin-fed forms. Beginning with the 2002 survey year, forms are printed and labeled, as needed, using a print-on-demand system (Docuprint). There are several benefits in using this type of system. We no longer need to purchase or store the large quantity of forms required. Also, using Docuprint allows us to print the form and label at the same time and gives us the flexibility to print special instructions where needed.

Estimates produced from the Annual Retail Trade Survey are published on the North American Industry Classification System (NAICS) basis.

For the 2005 data year, we will introduce a new sample. As part of the process we will request two years of data resulting in a response burden time of 56 minutes. In 2006, response burden is expected to decrease to 37 minutes, as only one year of data will be requested.

II. Method of Collection

We collect this information by mail, fax, and telephone follow-up.

III. Data

OMB Number: 0607-0013.

Form Number: SA-44, SA-44A, SA-44C, SA-44E, SA-44N, SA-44S, SA-45, SA-45C, SA-721A, and SA-721E.

Type of Review: Regular submission.

Affected Public: Retail and accommodation and food services businesses in the United States.

Estimated Number of Respondents: 22,168.

Estimated Time Per Response: 56 minutes.

Estimated Total Annual Burden Hours: 20,690.

Estimated Total Annual Cost: The cost to the respondents for fiscal year 2005 is estimated to be $488,080 based on the annual response burden of 20,690 hours and an hourly salary rate of $23.59 to complete the form.

Respondent's Obligation: Mandatory.

Legal Authority: Title 13, United States Code, section 182, 224 and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 19, 2005.
Madeleine Clayton,
Management Analyst, Office of the Chief Information Officer.

[FR Doc. 05-8117 Filed 4-21-05; 8:45 am]

BILLING CODE 3510-07-P